DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Documentation of Fish Harvest.

OMB Control Number: 0648-0365.

Form Number(s): None.

Type of Request: Regular submission.

Burden Hours: 50.

Number of Respondents: 25.

Average Hours per Response: 30 minutes.

Needs and Uses: The Magnuson-Stevens Fishery Conservation and Management Act (16 U.S.C. 1801 et seq.) authorizes the development of regional Fishery Management Plans (FMP). The National Marine Fishery Service's (NMFS) FMP for the Snapper-Grouper Fishery of the South Atlantic Region requires that dealers possessing red porgy, gag, black grouper, or greater amberjack during seasonal closures must maintain documentation that such fish were harvested from areas other than the South Atlantic. This requirement is codified in 50 CFR 622.45. The documentation includes information on the vessel that harvested the fish and on where and when the fish were offloaded. This information is required for the enforcement of fishery regulations.

Affected Public: Business or other for-profit organizations.

Frequency: On occasion.

Respondent's Obligation: Mandatory.

OMB Desk Officer: David Rostker, (202) 395-3897.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: February 3, 2009.
Gwellnar Banks,
Management Analyst, Office of the Chief Information Officer.

[FR Doc. E9-2534 Filed 2-5-09; 8:45 am]

BILLING CODE 3510-22-P